DEPARTMENT OF DEFENSE

Office of the Secretary

[DOD-2007-OS-0018]

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: The changes will be effective on April 6, 2007 unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on February 26, 2007, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: February 28, 2007.
C.R. Choate,
Alternate OSD Federal Register Liaison Officer, Department of Defense.

DSCA 02

System name:

Regional International Outreach System.

System location:

Space and Naval Warfare Systems Center Charleston—Europe Offices, Kelley Barracks, Bldg. 3315, 70567 Stuttgart-Moeringen, Germany.

Space and Naval Warfare Systems Center Charleston, One Innovation Drive, Hanahan, SC 29406-4200.

Naval Postgraduate School, School of International Graduate Studies, 1 University Circle, Herrmann Hall, M6E, Monterey, CA 93943-5216.

Africa Center for Strategic Studies, National Defense University, 300 5th Avenue, Bldg. 62, Fort McNair, Washington, DC 20319-5066.

Asia-Pacific Center for Security Studies, 2058 Maluhia Rd., Honolulu, HI 96815-1949.

Center for Hemispheric Defense Studies, National Defense University at Coast Guard Headquarters building, 2100 Second Street SW., Suite 4118, Washington, DC 20593-0001.

George C. Marshall European Center for Security Studies, Gernackerstrasse 2, Gebaude 101, D-82467 Garmsch-Partenkirchen, Germany.

Near East South Asia Center for Security Studies, National Defense University at Coast Guard Headquarters building, 2100 Second Street SW., Suite 4308, Washington, DC 20593-0001.

Categories of individuals covered by the system:

DoD Military and civilian employees, students, alumni, contractors, who interact with the Regional Centers for Security Studies, and subject matter experts of the Department of Defense's Regional Centers for Security Studies, School of International Graduate Studies.

Categories of records in the system:

Name, e-mail address, home address, organization, phone number, and biographic information such as expertise, background, education.

Authority for maintenance of the system:

5 U.S.C. 301, Departmental Regulations and 10 U.S.C. 113, Secretary of Defense.

Purpose(s):

To improve international outreach efforts (with students, graduates and subject matter experts) and collaboration among the Regional Centers for Security Studies, School of International Graduate Studies and the Defense Security Cooperation Agency. The system of records will provide the capability to compile statistical information.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Electronic storage media.

Retrievability:

Name, country, month/year of attendance, and subject.

Safeguards:

Access is limited to those individuals who require access to the records to perform official and assigned duties. Physical access is limited through the use of locks, guards, card swipe, and other administrative procedures. The electronic records deployed on accredited systems with access restricted by the use of login, password, and/or card swipe protocols. Employees are warned through screen log-on, protocols and in briefings of the consequences of improper access or use of the data. In addition, users are required to shutdown their workstations when leaving the work area. The Web-based files are encrypted in accordance with approved information assurance protocols. During non-duty hours, records are secured in access-controlled buildings, offices, cabinets or computer systems. The requested data is voluntary and users consent to share their information with other contacts.

Retention and disposal:

Records will be destroyed ten years after an individual last actively participated.

System manager and address:

Regional International Outreach Program Manager, Defense Security Cooperation Agency, ATTN: PGM/MGT—RIO PM, 201 12th Street, Suite 203, Arlington, VA 22202-4306.

Notification procedure:

Individuals seeking to determine whether information about themselves is contained in this system should address written inquiries to the Regional International Outreach Program Manager, Defense Security Cooperation Agency, ATTN: PGM/MGT—RIO PM, 201 12th Street, Suite 203, Arlington, VA 22202-4306.

Requests should contain the full name, e-mail address, address, phone number, and organization.

Record access procedures:

Individuals seeking access to records about themselves contained in this system should address written inquiries to the Regional International Outreach Program Manager, Defense Security Cooperation Agency, ATTN: PGM/MGT—RIO PM, 201 12th Street, Suite 203, Arlington, VA 22202-4306.

Requests should contain the full name, e-mail address, address, phone number, and organization.

Contesting record procedures:

The OSD rules for accessing records, for contesting contents and appealing initial agency determinations are published in OSD Administrative Instruction 81; 32 CFR part 311; or may be obtained from the system manager.

Record source categories:

From the individual.

Exemptions claimed for the system:

None.

[FR Doc. E7-4023 Filed 3-6-07; 8:45 am]

BILLING CODE 5001-06-P